NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (#1755) Hybrid Meeting.

Date and Time: March 25, 2024; 8:30 a.m. to 5 p.m.; March 26, 2024; 8:30 a.m. to 5 p.m.

Place: NSF, 2415 Eisenhower Avenue, Alexandria, VA 22314. Hybrid participation is for members and speakers only. Public participants may attend the meeting virtually by accessing the following link: https://nsf.zoomgov.com/webinar/register/WN_aZeZPArhRC-NP1KEXb04rg. After registering, you will receive a confirmation email with a unique link to join the meeting.

Type of Meeting: Open.

Contact Person: Simona Gilbert, National Science Foundation, 2415 Eisenhower Avenue, Room C 8047, Alexandria, Virginia 22314; Telephone: 703-292-7216.

Purpose of Meeting: To provide advice, recommendations and counsel on major goals and policies pertaining to engineering programs and activities.

Agenda

Monday, March 25, 2024; 8:30 a.m.-5 p.m.

• COI Ethics Briefing

• Call to Order

• AD Updates

• Program Updates

• Agency Updates

• Division/Office Highlights

• Closing Remarks

Tuesday, March 26, 2024; 8:30 a.m.-5 p.m.

• Agency Updates Continued

• NSF Director's Briefing

• AI for Climate Discussion

• Partnerships Discussion

• Future Meetings

• Action Item(s) Discussion

• Closing Remarks

Dated: February 27, 2024.
Crystal Robinson,
Committee Management Officer.

[FR Doc. 2024-04396 Filed 2-29-24; 8:45 am]

BILLING CODE 7555-01-P